INTERNATIONAL TRADE COMMISSION

[Investigation Nos. 701-TA-388, 389, and 391 and 731-TA-817, 818, and 821 (Third Review)]

Cut-to-Length Carbon-Quality Steel Plate From India, Indonesia, and Korea; Scheduling of Full Five-Year Reviews; Correction

AGENCY: U.S. International Trade Commission.

ACTION: Correction of notice.

SUMMARY: Correction is made to the December 20, 2017 hearing day in the Hearing section of the notice which was published on August 10, 2017 (82 FR 37465). The day of the hearing should be Wednesday, December 20, 2017.

Correction

In the Federal Register of August 10, 2017, in FR Doc. 17-16893, on page 37466, in the second column, in the fourth paragraph, under the heading Hearing, in the fourth line, correct “Thursday, December 20, 2017” to read “Wednesday, December 20, 2017”.

Issued: August 11, 2017.
Lisa R. Barton,
Secretary to the Commission.

[FR Doc. 2017-17370 Filed 8-16-17; 8:45 am]

BILLING CODE P7020-02-P